FEDERAL MARITIME COMMISSION

Notice of Agreements Filed

The Commission hereby gives notice of the filing of the following agreements under the Shipping Act of 1984. Interested parties may submit comments on the agreement to the Secretary, Federal Maritime Commission, Washington, DC 20573, within twelve days of the date this notice appears in the Federal Register. Copies of the agreement are available through the Commission's Web site (www.fmc.gov) or by contacting the Office of Agreements at (202)-523-5793 or tradeanalysis@fmc.gov.

Agreement No.: 010099-061.

Title: International Council of Containership Operators.

Parties: A.P. Moller-Maersk A/S; China Shipping Container Lines Co., Ltd.; CMA. CGM, S.A.; COSCO Container Lines Co. Ltd; Crowley Maritime Corporation; Evergreen Marine Corporation (Taiwan), Ltd.; Hamburg-Süd KG; Hanjin Shipping Co., Ltd.; Hapag-Lloyd AG; Hyundai Merchant Marine Co., Ltd.; Kawasaki Kisen Kaisha, Ltd.; Mediterranean Shipping Co. S.A.; Mitsui O.S.K. Lines, Ltd.; Neptune Orient Lines, Ltd.; Nippon Yusen Kaisha; Orient Overseas Container Line, Ltd.; Pacific International Lines (Pte) Ltd.; United Arab Shipping Company (S.A.G.); Wan Hai Lines Ltd.; Yang Ming Transport Marine Corp.; and Zim Integrated Shipping Services Ltd.

Filing Party: John Longstreth, Esq.; K & L Gates LLP; 1601 K Street NW.; Washington, DC 20006-1600.

Synopsis: The amendment deletes parties Compania Chilena de Navegacion Interoceanica S.A. and Compania Sud American de Vapores S.A.

Agreement No.: 012108-005.

Title: The World Liner Data Agreement.

Parties: ANL Container Line Pty Ltd.; A.P. Moller-Maersk A/S; CMA CGM S.A.; Evergreen Line Joint Service Agreement; Hamburg-Sud; Hapag-Lloyd AG; Hanjin Shipping Company, Ltd; Hyundai Merchant Marine Co., Ltd.; Independent Container Line Ltd.; Mediterranean Shipping Company S.A.; Orient Overseas Container Line Ltd.; United Arab Shipping Company S.A.G.; and ZIM Integrated Shipping Services Limited.

Filing Party: Wayne Rohde, Esq.; Cozen O'Connor; 1200 Nineteenth Street NW.; Washington, DC 20036.

Synopsis: The amendment deletes parties Compania Chilena de Navegacion Interoceanica S.A.; Compania Sud American De Vapores S.A.; and Turkon Konteyner Tasimacilik ve Denizcilik A.S.

Agreement No.: 012387.

Title: CMA CGM/UASC USEC-ISC-Middle East Slot Charter Agreement.

Parties: CMA CGM S.A. and United Arab Shipping Co. (SAG).

Filing Party: Joshua P. Stein; Cozen O'Connor; 1200 Nineteenth Street NW.; Washington, DC 20036.

Synopsis: The agreement authorizes CMA to charter space to UASC in the trade between the U.S. East Coast on the one hand, and India, Pakistan, Egypt, and Saudi Arabia, on the other hand.

Agreement No.: 201166-003.

Title: Marine Terminal Lease and Operating Agreement Between Broward County and Florida International Terminal, LLC.

Parties: Broward County and Florida International Terminal, LLC.

Filing Party: Candace J. Running; Broward County Board of County Commissioners; Office of the County Attorney; 1850 Eller Drive, Suite 502; Fort Lauderdale, FL 33316.

Synopsis: The agreement provides for the lease and operation of terminal facilities at Port Everglades in Broward County, Florida.

By Order of the Federal Maritime Commission.
Dated: January 29, 2016.
Rachel E. Dickon,
Assistant Secretary.

[FR Doc. 2016-02044 Filed 2-3-16; 8:45 am]

BILLING CODE 6731-AA-P